DEPARTMENT OF VETERANS AFFAIRS

Veterans Community Integration Resources Military Life Cycle Module

AGENCY: Department of Veterans Affairs (VA).

ACTION: Notice.

SUMMARY: The Department of Veterans Affairs (VA) is announcing to the public its intent to develop a “Community Integration Resources” (CIR) Military Life Cycle (MLC) module. MLC modules are learning opportunities that are available at designated touchpoints throughout servicemembers' careers and that help servicemembers plan for transition well before separation. This CIR module will help make servicemembers and veterans aware of the community resources and services available; it will also help them learn to use Federal tools like the National Resource Directory to identify and vet those resources and services and decide how and when to engage them for assistance. Organizations interested in supporting servicemembers and veterans as they integrate into their communities are encouraged to register with the National Resource Directory (NRD) by visiting http://nrd.gov and selecting “Submit a Resource.” Registration in NRD ensures that your organization is included in the MLC module's resources and makes your organization visible and accessible to servicemembers and veterans across the Nation.

FOR FURTHER INFORMATION CONTACT: Robert Sanders, Military to Civilian Transition (MCT), Office of Transition and Economic Development, Veterans Benefit Administration (VBA), Department of Veterans Affairs (VA), 1800 G St. NW, Washington, DC 20420, (202) 461-8481 (this is not a toll free number).

SUPPLEMENTARY INFORMATION: Executive Order 13822 (Supporting Our Veterans During Their Transition from Uniformed Service to Civilian Life) requires VA, Department of Defense (DoD), and Department of Homeland Security (DHS) to address the complex challenges faced by our transitioning uniformed servicemembers and veterans. The Executive Order (E.O.) 13822 required VA, DoD, and DHS to submit a Joint Action Plan that described concrete actions to provide seamless access to mental health treatment and suicide prevention resources for transitioning servicemembers (TSM). In response, VA is leading an interagency collaboration to create a MLC module called the “Community Integration Resources,” whose goal is to provide awareness of community resources and services and teach servicemembers how to identify, vet, and engage with them for assistance. MLC will meet the mandate of the E.O.; it will also go beyond to encompass a broad range of other resources that a TSM may need.

Signing Authority

The Secretary of Veterans Affairs, or designee, approved this document and authorized the undersigned to sign and submit the document to the Office of the Federal Register for publication electronically as an official document of the Department of Veterans Affairs. Robert L. Wilkie, Secretary, Department of Veterans Affairs, approved this document on January 18, 2019, for publication.

Dated: February 4, 2019.
Luvenia Potts,
Program Specialist, Office of Regulation Policy & Management, Office of the Secretary, Department of Veterans Affairs.

[FR Doc. 2019-01495 Filed 2-6-19; 8:45 am]

BILLING CODE 8320-01-P